DEPARTMENT OF COMMERCE

International Trade Administration

[A-560-802]

Certain Preserved Mushrooms from Indonesia: Initiation of New Shipper Antidumping Duty Review

AGENCY: Import Administration, International Trade Administration, Department of Commerce.

ACTION: Notice of Initiation of New Shipper Antidumping Duty Review for the period February 1, 2002, through July 31, 2002.

EFFECTIVE DATE: October 7, 2002.

SUMMARY: The Department of Commerce has received requests to conduct a new shipper review of the antidumping duty order on certain preserved mushrooms from Indonesia. In accordance with section 751(a)(2)(B) of the Tariff Act of 1930, as amended, and 19 CFR 351.214(d), we are initiating a review for PT Eka Timur Raya and PT Karya Kompos Bagas.

FOR FURTHER INFORMATION CONTACT: Sophie Castro or Rebecca Trainor, Import Administration, International Trade Administration, U.S. Department of Commerce, 14th Street and Constitution Avenue, NW., Washington, DC 20230; telephone (202) 482-0588 or (202) 482-4007, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 CFR part 351 (2002).

Background

The Department has received timely requests from PT Eka Timur Raya (Etira) and PT Karya Kompos Bagas (KKB), in accordance with 19 CFR 351.214(c), for a new shipper review of the antidumping duty order on certain preserved mushrooms from Indonesia, which has a February anniversary month.

As required by 19 CFR 351.214(b)(2)(i), (ii), and (iii)(A), each company identified above has certified that it did not export certain preserved mushrooms to the United States during the period of investigation (“POI”), and that it has never been affiliated with any exporter or producer which exported certain preserved mushrooms during the POI. Pursuant to the Department's regulations at 19 CFR 351.214(b)(2)(iv), each company submitted documentation establishing the date on which it first shipped the subject merchandise to the United States, the date of entry of that first shipment, the volume of that shipment and the date of the first sale to an unaffiliated customer in the United States.

In accordance with section 751(a)(2)(B) of the Act, as amended, and 19 CFR 351.214(b), and based on information on the record, we are initiating a new shipper review for Etria and KKB.

Initiation of Review

In accordance with section 751(a)(2)(B)(ii) of the Act and 19 CFR 351.214(d)(1), we are initiating a new shipper review of the antidumping duty order on certain preserved mushrooms from Indonesia. We intend to issue the preliminary results of this new shipper review not later than 180 days after initiation of this review.

Antidumping Duty New Shipper Review Proceeding | Period to be Reviewed
PT Eka Timur Raya | 02/01/02 - 07/31/02
PT Karya Kompos Bagas | 02/01/02 - 07/31/02

We will instruct the Customs Service to allow, at the option of the importer, the posting, until the completion of the review, of a bond or security in lieu of a cash deposit for each entry of the subject merchandise from the above-listed companies in accordance with 19 CFR 351.214(e). Because Etria and KKB certified that they both produce and export the subject merchandise, the sale of which was the basis for this new shipper review request, we will apply the bonding privilege only to subject merchandise for which they are both the producer and exporter.

Interested parties that need access to proprietary information in this new shipper review should submit applications for disclosure under administrative protective orders in accordance with 19 CFR 351.305 and 351.306.

This initiation and notice are in accordance with section 751(a) of the Act (19 U.S.C. 1675(a)) and 19 CFR 351.214(d).

Dated: September 30, 2002.
Richard Moreland,
Deputy Assistant Secretary for Import Administration.

[FR Doc. 02-25448 Filed 10-4-02; 8:45 am]

BILLING CODE 3510-DS-S